OFFICE OF PERSONNEL MANAGEMENT

Excepted Service

AGENCY: U.S. Office of Personnel Management (OPM).

ACTION: Notice.

SUMMARY: This gives notice of OPM decisions granting authority to make appointments under Schedules A, B, and C in the excepted service as required by 5 CFR 6.6 and 213.103.

FOR FURTHER INFORMATION CONTACT: Glenda Haendschke, Acting Group Manager, Executive Resources Services Group, Center for Human Resources, Division for Human Capital Leadership and Merit System Accountability, 202-606-2246.

SUPPLEMENTARY INFORMATION: Appearing in the listing below are the individual authorities established under Schedules A, B, and C between June 1, 2009, and June 30, 2009. Future notices will be published on the fourth Tuesday of each month, or as soon as possible thereafter. A consolidated listing of all authorities as of June 30 is published each year. The following Schedules are not codified in the code of Federal Regulations. These are agency specific exceptions.

Schedule A

No Schedule A authority to report.

Schedule B

No Schedule B authority to report.

Schedule C

The following Schedule C appointments were approved during June 2009.

Office of Management and Budget

BOGS90033 Deputy to the Associate Director for Legislative Affairs (House). Effective June 12, 2009.

Office of National Drug Control Policy

QQGS90001 Confidential Assistant to the Director. Effective June 10, 2009.

QQGS90002 Program Support Specialist (Office for Public Affairs). Effective June 11, 2009.

QQGS90003 Policy Analyst for State, Local, and Tribal Affairs. Effective June 25, 2009.

Office of Personnel Management

PMGS31334 Deputy Director for the Office of Congressional Relations. Effective June 2, 2009.

PMGS31335 Public Affairs Specialist for the Office of Communications and Public Liaison. Effective June 2, 2009.

PMGS31346 Public Affairs Specialist for the Office of Communications and Public Liaison. Effective June 2, 2009.

PMGS31347 Public and Congressional Affairs Specialist for the Office of Congressional Relations. Effective June 2, 2009.

PMGS31348 Congressional Relations Officer, Office of Congressional Relations. Effective June 9, 2009.

PMGS31350 Public Affairs Specialist for the Office of Communications and Public Liaison. Effective June 9, 2009.

Department of State

DSGS69942 Staff Assistant to the Secretary of State. Effective June 9, 2009.

DSGS69945 Staff Assistant for European and Eurasian Affairs. Effective June 16, 2009.

DSGS69946 Senior Advisor for Policy Planning Staff. Effective June 16, 2009.

DSGS69947 Assistant Chief of Protocol (Visits). Effective June 16, 2009.

DSGS69948 Deputy Assistant Secretary for Legislative and Intergovernmental Affairs. Effective June 16, 2009.

DSGS69949 Legislative Management for Legislative and Intergovernmental Affairs. Effective June 16, 2009.

Department of the Treasury

DYGS00450 Special Assistant for Public Affairs. Effective June 5, 2009.

DYGS00519 Financial Restructuring Specialist. Effective June 5, 2009.

DYGS00520 Special Assistant to the Assistant Secretary (Economic Policy). Effective June 5, 2009.

DYGS00497 Senior Advisor to the Assistant Secretary (Financial Institutions). Effective June 11, 2009.

DYGS00435 Executive Assistant to the Secretary. Effective June 17, 2009.

DYGS00372 Special Assistant for Financial Markets. Effective June 19, 2009.

DYGS00516 Special Assistant to the Secretary. Effective June 30, 2009.

Department of Defense

DDGS17220 Special Assistant for South and Southeast Asia, for Defense (South and Southeast Asia). Effective June 3, 2009.

DDGS17221 Special Assistant of Strategy for Defense. Effective June 3, 2009.

DDGS17219 Special Assistant, Policy Support Division, for Defense (Legislative Affairs). Effective June 4, 2009.

DDGS17224 Special Assistant for Defense (Middle East). Effective June 5, 2009.

DDGS17226 Special Assistant for Defense (Western Hemisphere Affairs). Effective June 5, 2009.

DDGS17222 Special Assistant for Communications, Office of the Assistant Secretary of Defense (Legislative Affairs). Effective June 8, 2009.

DDGS17225 Special Assistant to the Assistant Secretary of Defense (Asian and Pacific Security Affairs). Effective June 8, 2009.

DDGS17227 Special Assistant to the Assistant Secretary of Defense for Defense (Global Strategic Affairs). Effective June 8, 2009.

DDGS17228 Special Assistant to the Deputy Assistant Secretary for Defense (Russia, Ukraine, and Eurasia). Effective June 8, 2009.

DDGS17229 Special Assistant to the Deputy Assistant Secretary of Defense (Special Operations/Low Intensity Conflict and Interdependent Capabilities). Effective June 10, 2009.

DDGS17223 Special Assistant to the Assistant Secretary of Defense (International Security Affairs). Effective June 11, 2009.

DDGS17230 Advance Officer for the Special Assistant for Defense. Effective June 11, 2009.

DDGS17232 Special Assistant to the Deputy Assistant Secretary for Defense (East Asia). Effective June 16, 2009.

DDGS17233 Special Assistant to the Principal Deputy Under Secretary of Defense for Policy. Effective June 19, 2009.

DDGS17234 Special Assistant to the Deputy Assistant Secretary of Defense (Detainee Affairs). Effective June 23, 2009.

DDGS17231 Director, Advance Office to the Special Assistant of Defense. Effective June 25, 2009.

Department of Justice

DJGS00512 Counsel to the Assistant Attorney General Civil Division. Effective June 11, 2009.

DJGS00515 Counselor to the Assistant Attorney General, Office of Justice Programs. Effective June 11, 2009.

DJGS00516 Counsel to the Assistant Attorney General Civil Division. Effective June 11, 2009.

DJGS00113 Senior Counsel to the Director, for Community Relations Service. Effective June 23, 2009.

DJGS00090 Chief of Staff and Counsel to the Assistant Attorney General. Effective June 25, 2009.

DJGS00238 Press Assistant to the Director, Office of Public Affairs. Effective June 25, 2009.

DJGS00297 Counsel to the Assistant Attorney General (Civil Rights). Effective June 25, 2009.

DJGS00522 Associate Director, Office of Intergovernmental and Public Liaison. Effective June 25, 2009.

Department of Homeland Security

DMGS00736 Director of Strategic Communications for Public Affairs. Effective June 4, 2009.

DMGS00821 Traveling Press Secretary of External Affairs and Communications. Effective June 4, 2009.

DMGS00656 Director of Speechwriting for Public Affairs. Effective June 10, 2009.

DMGS00788 Counselor to the Principal Deputy General Counsel. Effective June 10, 2009.

DMGS00789 Counselor to the Associate General Counsel for General Law. Effective June 10, 2009.

DMGS00794 Assistant for Special Projects. Effective June 10, 2009.

DMGS00802 Special Assistant to the Assistant Secretary for Policy. Effective June 10, 2009.

DMGS00805 Special Assistant to the Director, Office of Counter Narcotics Enforcement. Effective June 10, 2009.

DMGS00806 Confidential Assistant to the General Counsel. Effective June 10, 2009.

DMGS00810 Special Assistant to the Executive Director, Homeland Security Advisory Committees. Effective June 10, 2009.

DMGS00812 Press Assistant for Public Affairs. Effective June 10, 2009.

DMGS00814 Confidential Assistant to the Assistant Secretary, Immigration and Customs Enforcement. Effective June 10, 2009.

DMGS00822 Counselor to the Administrator for Federal Emergency Management Agency. Effective June 10, 2009.

DMGS00674 Special Assistant for International Affairs. Effective June 15, 2009.

DMGS00779 Confidential Assistant for Policy Development. Effective June 15, 2009.

DMGS00825 Advisor to the Administrator for Federal Emergency Management Agency. Effective June 15, 2009.

DMGS00437 Counselor to the Director, United States Citizenship and Immigration Services. Effective June 16, 2009.

DMGS00815 Scheduling and Advance Assistant of Scheduling and Protocol Coordination. Effective June 16, 2009.

DMGS00818 Special Assistant. Effective June 16, 2009.

DMGS00826 Special Assistant. Effective June 16, 2009.

DMGS00827 Special Assistant. Effective June 16, 2009.

DMGS00724 Executive Director, Homeland Security Advisory Committees, for Policy. Effective June 17, 2009.

DMGS00688 Special Advisor to the Assistant Secretary for Legislative Affairs. Effective June 19, 2009.

DMGS00824 Advisor for Policy. Effective June 19, 2009.

DMGS00760 Director of Intergovernmental Affairs. Effective June 24, 2009.

DMGS00798 Program Specialist. Effective June 24, 2009.

DMGS00809 Deputy Director of Legislative Affairs to the Assistant Secretary, Immigration and Customs Enforcement. Effective June 24, 2009.

DMGS00823 Chief, Office of Citizenship, United States Citizenship and Immigration Services. Effective June 24, 2009.

DMGS00829 Special Assistant for International Affairs. Effective June 24, 2009.

DMGS00830 Executive Assistant to the Commissioner, United States Customs and Border Protection. Effective June 24, 2009.

DMGS00831 Senior Advisor, Disability Issues of External Affairs and Communications. Effective June 24, 2009.

Department of the Interior

DIGS01164 Special Assistant to the Assistant Secretary, Land and Minerals Management. Effective June 9, 2009.

DIGS01165 Senior Advisor to the Assistant Secretary of Indian Affairs. Effective June 19, 2009.

DIGS00905 Senior Counselor to the Solicitor. Effective June 24, 2009.

Department of Agriculture

DAGS00145 Confidential Assistant to the Director of Communications. Effective June 1, 2009.

DAGS00130 Special Assistant for Civil Rights. Effective June 9, 2009.

DAGS00149 Staff Assistant for Risk Management. Effective June 16, 2009.

DAGS00150 Senior Advisor for Foreign Agricultural Service. Effective June 17, 2009.

DAGS00151 Confidential Assistant to the Administrator. Effective June 19, 2009.

DAGS00152 Confidential Assistant for Administration. Effective June 25, 2009.

DAGS00153 Confidential Assistant for Administration. Effective June 26, 2009.

DAGS00155 Director, Intergovernmental Affairs for Congressional Relations. Effective June 26, 2009.

DAGS00156 Deputy Director, Intergovernmental Affairs for Congressional Relations. Effective June 26, 2009.

Department of Commerce

DCGS00476 Deputy Director, Executive Secretariat. Effective June 4, 2009.

DCGS00470 Confidential Assistant to the Director. Effective June 9, 2009.

DCGS60423 Senior Policy Advisor for Intellectual Property and Director of the United States Patent and Trademark Office. Effective June 11, 2009.

DCGS00268 Special Assistant. Effective June 12, 2009.

DCGS00181 Special Advisor for Communications and Information. Effective June 15, 2009.

DCGS00359 New Media Specialist for National Telecommunications and Information Administration. Effective June 19, 2009.

DCGS00620 Director of Legislative Affairs, International Trade Administration. Effective June 19, 2009.

DCGS00667 Senior Policy Advisor for International Trade. Effective June 22, 2009.

DCGS00154 Advance Specialist to the Director of Advance. Effective June 30, 2009.

DCGS00638 Confidential Assistant for National Telecommunications and Information Administration. Effective June 30, 2009.

DCGS60544 Chief of Staff for International Trade Administration. Effective June 30, 2009.

Department of Labor

DLGS60093 Special Assistant of Scheduling and Advance. Effective June 4, 2009.

DLGS00166 Staff Assistant to the Chief Economist. Effective June 5, 2009.

DLGS00108 Special Assistant of Scheduling and Advance. Effective June 9, 2009.

DLGS60273 Special Assistant for Administration and Management. Effective June 18, 2009.

Department of Health and Human Services

DHGS60345 Director of Public Affairs for Children and Families. Effective June 3, 2009.

DHGS60031 Confidential Assistant to the Assistant Secretary for Public Affairs. Effective June 9, 2009.

DHGS60111 Confidential Assistant to the Assistant Secretary for Public Affairs. Effective June 9, 2009.

DHGS60063 Confidential Assistant to the Director for Public Affairs. Effective June 17, 2009.

DHGS60436 Associate Commissioner for Children and Families. Effective June 17, 2009.

DHGS60540 Confidential Assistant to the Assistant Secretary for Health. Effective June 17, 2009.

DHGS60581 Special Assistant to the National Health Information Technology Coordinator. Effective June 17, 2009.

DHGS60680 Special Assistant to the Director, Office of Legislation. Effective June17, 2009.

DHGS60010 Confidential Assistant for the Director, Center for Faith Based and Community Initiatives. Effective June 18, 2009.

DHGS60344 Confidential Assistant for Legislation (Health Policy). Effective June 22, 2009.

DHGS60580 Special Assistant to the National Coordinator for Health Information Technology. Effective June 22, 2009.

Department of Education

DBGS00202 Deputy Assistant Secretary for Enforcement for Civil Rights. Effective June 2, 2009.

DBGS00442 Confidential Assistant for Civil Rights. Effective June 2, 2009.

DBGS00303 Director, White House Initiative on Educational Excellence for Hispanic Americans. Effective June 3, 2009.

DBGS00359 Special Assistant for Civil Rights. Effective June 4, 2009.

DBGS00404 Special Assistant to the General Counsel. Effective June 4, 2009.

DBGS00560 Special Assistant for Planning, Evaluation, and Policy Development. Effective June 4, 2009.

DBGS00612 Special Assistant to the General Counsel. Effective June 4, 2009.

DBGS00676 Confidential Assistant to the Executive Administrator. Effective June 4, 2009.

DBGS60164 Confidential Assistant to the Deputy Under Secretary. Effective June 4, 2009.

DBGS00219 Special Assistant to the Deputy Under Secretary. Effective June 9, 2009.

DBGS00661 Confidential Assistant to the White House Liaison. Effective June 9, 2009.

DBGS00569 Special Assistant to the Director, Academic Improvement and Teacher Quality Programs. Effective June 11, 2009.

DBGS00226 Confidential Assistant to the Director, Faith-Based and Community Initiatives Center. Effective June 18, 2009.

DBGS00289 Assistant Deputy Secretary for Safe and Drug-Free Schools of Education. Effective June 18, 2009.

DBGS00415 Confidential Assistant for Planning, Evaluation, and Policy Development. Effective June 18, 2009.

DBGS00570 Confidential Assistant for Intergovernmental Affairs. Effective June 18, 2009.

DBGS00678 Special Assistant for Planning, Evaluation, and Policy Development. Effective June 18, 2009.

DBGS00609 Special Assistant to the Under Secretary. Effective June 22, 2009.

DBGS00663 Special Assistant, Office of Communications and Outreach. Effective June 23, 2009.

DBGS00671 Chief of Staff for Innovation and Improvement. Effective June 23, 2009.

DBGS00226 Confidential Assistant. Effective June 26, 2009.

DBGS00674 Confidential Assistant. Effective June 26, 2009.

DBGS00679 Special Assistant for Faith-Based and Community Initiatives Center. Effective June 26, 2009.

Environmental Protection Agency

EPGS06028 Deputy Associate Administrator for Congressional and Intergovernmental Relations. Effective June 4, 2009.

Council on Environmental Quality

EQGS09007 Special Assistant to the Associate Director for Climate Change for the Chairman (Council on Environmental Quality). Effective June 1, 2009.

United States Tax Court

JCGS60070 Trial Clerk to the Chief Judge. Effective June 26, 2009.

Securities and Exchange Commission

SEOT60062 Confidential Assistant to a Commissioner. Effective June 11, 2009.

SEOT65001 Executive Staff Assistant. Effective June 11, 2009.

Department of Energy

DEGS00750 Special Assistant. Effective June 2, 2009.

DEGS00751 New Media Specialist. Effective June 2, 2009.

DEGS00752 Special Assistant to the Deputy Secretary of Energy. Effective June 2, 2009.

DEGS00753 Special Assistant to the Under Secretary for Science. Effective June 2, 2009.

DEGS00754 Public Affairs Coordinator. Effective June 4, 2009.

DEGS00756 Senior Counsel. Effective June 16, 2009.

DEGS00755 Special Advisor to the Under Secretary for Science. Effective June 17, 2009.

DEGS00758 Special Assistant to the General Counsel. Effective June 17, 2009.

DEGS00757 Senior Advisor to the Under Secretary. Effective June 19, 2009.

DEGS00759 Special Assistant for Policy and International Affairs. Effective June 19, 2009.

DEGS00760 Special Assistant and Scheduler to the Director, Office of Scheduling and Advance. Effective June 25, 2009.

DEGS00761 Special Assistant to the Assistant Secretary (Energy Efficiency and Renewable Energy). Effective June 25, 2009.

Small Business Administration

SBGS00601 Associate Administrator for Field Operations. Effective June 19, 2009.

General Services Administration

GSGS60103 Special Assistant. Effective June 11, 2009.

Export-Import Bank

EBGS45409 Special Assistant to the President and Chairman. Effective June 17, 2009.

National Credit Union Administration

CUOT60009 Staff Assistant to the National Credit Union Administration Board. Effective June 26, 2009.

Consumer Product Safety Commission

PSGS00023 Special Assistant (Legal) to the Consumer Product Safety Commission. Effective June 26, 2009.

PSGS07318 Special Assistant to a Commissioner. Effective June 26, 2009.

Commodity Futures Trading Commission

CTOT00098 Director of Legislative Affairs. Effective June 26, 2009.

CTOT00099 Director of Public Affairs. Effective June 26, 2009.

Department of Housing and Urban Development

DUGS60415 Senior Speechwriter for Public Affairs. Effective June 1, 2009.

DUGS60502 Special Policy Advisor for Public and Indian Housing. Effective June 3, 2009.

DUGS60603 Staff Assistant for Policy Development Research. Effective June 5, 2009.

DUGS60519 Special Assistant for Public and Indian Housing. Effective June 8, 2009.

DUGS60597 Deputy Chief of Staff for Policy and Programs. Effective June 8, 2009.

DUGS60520 Special Assistant for Public and Indian Housing. Effective June 9, 2009.

DUGS60179 Advance Coordinator for Executive Scheduling. Effective June 11, 2009.

DUGS60182 Special Assistant for Public and Indian Housing. Effective June 17, 2009.

DUGS60410 Special Assistant to the General Counsel. Effective June 17, 2009.

Department of Transportation

DTGS60173 Director of Congressional Affairs. Effective June 23, 2009.

DTGS60372 Deputy Assistant Secretary for Governmental Affairs. Effective June 23, 2009.

DTGS60127 Deputy Assistant Secretary of Management and Budget. Effective June 25, 2009.

Authority: 5 U.S.C. 3301 and 3302; E.O. 10577, 3 CFR 1954-1958 Comp., p. 218.

U.S. Office of Personnel Management.
John Berry,
Director.

[FR Doc. E9-18679 Filed 8-4-09; 8:45 am]

BILLING CODE 6325-39-P